SMALL BUSINESS ADMINISTRATION

[Disaster Declaration # 10448 and # 10449]

Arkansas Disaster # AR-00005

AGENCY: U.S. Small Business Administration.

ACTION: Notice.

SUMMARY: This is a Notice of the Presidential declaration of a major disaster for the State of Arkansas (FEMA-1636-DR), dated April 12, 2006.

Incident: Severe storms and tornadoes.

Incident Period: April 1, 2006 through April 3, 2006.

Effective Date: April 12, 2006.

Physical Loan Application Deadline Date: June 12, 2006.

Economic Injury (EIDL) Loan Application Deadline Date: January 12, 2007.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on April 12, 2006, applications for disaster loans may be filed at the address listed above or other locally announced locations.

The following areas have been determined to be adversely affected by the disaster:

Primary Counties (Physical Damage and Economic Injury Loans): Conway, Cross, Fulton, Greene, Lawrence, Randolph, White

Contiguous Counties (Economic Injury Loans Only): Arkansas

Baxter, Clay, Cleburne, Craighead, Crittenden, Faulkner, Independence, Izard, Jackson Lonoke, Perry, Poinsett Pope, Prairie, Sharp, St. Francis, Van Buren, Woodruff Yell

Missouri

Dunklin, Howell, Oregon, Ozark, Ripley

The Interest Rates are:

| Percent
For Physical Damage:
Homeowners with Credit Available Elsewhere | 5.750
Homeowners without Credit Available Elsewhere | 2.875
Businesses with Credit Available Elsewhere | 7.408
Other (Including Non-Profit Organizations) with Credit Available Elsewhere | 5.000
Businesses and Non-Profit Organizations without Credit Available Elsewhere | 4.000
For Economic Injury:
Businesses & Small Agricultural Cooperatives without Credit Available Elsewhere | 4.000

The number assigned to this disaster for physical damage is 10448 C and for economic injury is 10449 O.

(Catalog of Federal Domestic Assistance Numbers 59002 and 59008)

Allan I. Hoberman,
Acting Associate Administrator for Disaster Assistance.

[FR Doc. E6-5836 Filed 4-18-06; 8:45 am]

BILLING CODE 8025-01-P